DEPARTMENT OF HEALTH AND HUMAN SERVICES

Office of the Secretary

Seeking Public Comment on Two Draft Chapters of the National Health Security Strategy Biennial Implementation Plan

AGENCY: Department of Health and Human Services, Office of the Secretary.

ACTION: Notice.

Authority: Public Health Service Act, 42 U.S.C. 300hh-1.

SUMMARY: To help the Nation achieve national health security and to implement the first quadrennial National Health Security Strategy (NHSS) of the United States of America (2009) and build upon the NHSS Interim Implementation Guide for the National Health Security Strategy of the United States of America (2009) the U.S. Government has drafted a NHSS Biennial Implementation Plan (BIP). This document is intended to describe the priority activities to occur during fiscal years 2011 and 2012 of implementation so that all sectors and segments of the Nation are working collectively and leveraging resources to achieve the same outcomes. The activities include responsible entities. The target audience for the BIP is the Nation (individuals, families, communities including all sectors and governments, states and the Federal Government).

Two chapters (and respective appendices) of the draft BIP document which address (1) Strategic Objective 4, Foster Integrated, Scalable Health Care Delivery Systems; and (2) Strategic Objective 6, Promote and Effective Countermeasures Enterprise are submitted for public consideration and comment for a period of 14 calendar days at http://www.phe.gov/nhss. These chapters are the final two to be provided for public consideration and comment; others were available in July 2010. The Office of the Assistant Secretary of Preparedness and Response (ASPR) within the Department of Health and Human Services (HHS) is submitting this document for public consideration as the lead agency in a broad interagency process to draft the implementation plan.

DATES: The public is encouraged to submit written comments on this proposed document. Comments may be submitted to HHS/ASPR in electronic form at the HHS/ASPR e-mail address and URL shown below. All comments should be submitted by April 18, 2011. All written comments received in response to this notice will be available for review by request. This document is available in hard-copy for all those that request it from the federal point of contact.

FOR FURTHER INFORMATION CONTACT: Lisa Kaplowitz, Deputy Assistant Secretary, Office of Policy and Planning, Office of the Assistant Secretary for Preparedness and Response, U.S. Department of Health and Human Services, 200 Independence Avenue, SW., Washington, DC 20201; phone: 202-205-2882; http://www.phe.gov/nhss; e-mail address: nhss@hhs.gov.

SUPPLEMENTARY INFORMATION: The National Health Security Strategy (2009) can be found at: http://www.phe.gov/Preparedness/planning/authority/nhss/Pages/default.aspx.

Dated: March 28, 2011.
Nicole Lurie,
Assistant Secretary for Preparedness and Response.

[FR Doc. 2011-7881 Filed 4-1-11; 8:45 am]

BILLING CODE 4150-37-P